DEPARTMENT OF THE INTERIOR

Bureau of Indian Affairs

[178A2100DD/AAKC001030/A0A501010.999900 253G; OMB Control Number 1076-0164]

Agency Information Collection Activities: Submission to the Office of Management and Budget for Review and Approval; Homeliving Programs and School Closure and Consolidation

AGENCY: Bureau of Indian Affairs, Interior.

ACTION: Notice of information collection; request for comment.

SUMMARY: In compliance with the Paperwork Reduction Act of 1995, the Bureau of Indian Education (BIE) is proposing to renew an information collection.

DATES: Interested persons are invited to submit comments on or before August 30, 2017.

ADDRESSES: Send written comments on this information collection request (ICR) to the Office of Management and Budget's Desk Officer for the Department of the Interior by email at OIRA_Submission@omb.eop.gov; or via facsimile to (202) 395-5806. Please provide a copy of your comments to Ms. Juanita Mendoza, U.S. Department of the Interior, Bureau of Indian Education, 1849 C Street NW., Washington, DC 20240; fax: (202) 208-3312; email: Juanita.Mendoza@bie.edu. Please reference OMB Control Number 1076-0164 in the subject line of your comments.

FOR FURTHER INFORMATION CONTACT: To request additional information about this ICR, contact Ms. Juanita Mendoza, (202) 208-6123. You may also view the ICR at http://www.reginfo.gov/public/do/PRAMain.

SUPPLEMENTARY INFORMATION: We, the BIE, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

A Federal Register notice with a 60-day public comment period soliciting comments on this collection of information was published on May 26, 2017, (82 FR 24384). No comments were received.

We are again soliciting comments on the proposed ICR that is described below. We are especially interested in public comment addressing the following issues: (1) Is the collection necessary to the proper functions of the BIE; (2) will this information be processed and used in a timely manner; (3) is the estimate of burden accurate; (4) how might the BIE enhance the quality, utility, and clarity of the information to be collected; and (5) how might the BIE minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

An agency may not conduct or sponsor and a person is not required to respond to a collection of information unless it displays a currently valid OMB control number.

Title of Collection: Homeliving Programs and School Closure and Consolidation.

OMB Control Number: 1076-0164.

Form Number: None.

Type of Review: Extension without change of currently approved collection. Respondents/Affected Public: Indian Tribes.

Total Estimated Number of Annual Responses: 730 per year, on average.

Total Estimated Number of Annual Burden Hours: 1,344 hours.

Total Estimated Number of Annual Respondents: There are 65 schools with residential programs, of which 13 are Bureau-operated and 52 are Tribally-operated. Thus, the collection of information must be cleared for 52 of the 65 residential schools.

Estimated Completion Time per Response: Ranges from 1 minute to 40 hours, depending on the activity.

Respondent's Obligation: Response is required to obtain a benefit.

Frequency of Collection: Annual or on occasion, depending on the activity.

Total Estimated Annual Nonhour Burden Cost: $0.

Abstract: The regulations at 25 CFR 36, Subpart G, Home-living Programs, implement section 1122 of the Native American Education Improvement Act of 2001 (Pub. L. 95-561, title XI, § 1120, as added Pub. L. 107-110, title X, § 1042, Jan. 8, 2002, 115 Stat. 2007). These regulations require the BIE to implement national standards for home-living situations in all BIE-funded residential schools. The BIE must collect information from all BIE-funded residential schools in order to assess each school's progress in meeting the national standards. Submission of this information allows the BIE to ensure that minimum academic standards for the education of Indian children and criteria for dormitory situations in Bureau-operated schools and Indian-controlled contract schools are met.

The authorities for this action are 25 U.S.C. 2000-2021 and the Paperwork Reduction Act of 1995, 44 U.S.C. 3501 et seq.

Elizabeth K. Appel,
Director, Office of Regulatory Affairs and Collaborative Action—Indian Affairs.

[FR Doc. 2017-16001 Filed 7-28-17; 8:45 am]

BILLING CODE 4337-15-P